SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before May 21, 2007.

ADDRESSES: Send all comments regarding whether this information collection is necessary for the proper performance of the function of the agency, whether the burden estimates are accurate, and if there are ways to minimize the estimated burden and enhance the quality of the collection, to Frank Lalumiere, Director, Office of Surety Bonds, Small Business Administration, 409 3rd Street, SW., 8th Floor, Wash., DC 20416.

FOR FURTHER INFORMATION CONTACT: Frank Lalumiere, Director, Office of Surety Bonds 202-401-8275 frank.lalumiere@sba.gov, Curtis B. Rich, Management Analyst, 202-205-7030 curtis.rich@sba.gov.

SUPPLEMENTARY INFORMATION: Title: “Small Business Administration (SBA) Surety Bond Guarantee Customer Survey”

Description of Respondents: Small Businesses within the Construction Industry.

Form No: N/A.

Annual Responses: 600.

Annual Burden: 13.33.

Jacqueline White,
Chief, Administrative Information Branch.

[FR Doc. E7-5083 Filed 3-20-07; 8:45 am]

BILLING CODE 8025-01-P